DEPARTMENT OF AGRICULTURE

Rural Housing Service

Submission for OMB Review; Comment Request

September 12, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by October 17, 2016 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Rural Housing Service

Title: 7 CFR 1956-C, Debt Settlement—Community and Business Programs.

OMB Control Number: 0575-0124.

Summary of Collection: The Community and Direct Business Programs loans and grants are authorized by the Consolidated Farm and Rural Development Act. Rural Housing Service (RHS) is a credit agency for agricultural and rural development for the United States Department of Agriculture and offers supervised credit to develop, improve and operate family farms, modest housing, essential community facilities, and business and industry across rural America. 7 CFR 1956-C, Debt Settlement—Community and Business Programs provides policies and procedures as well as a mechanism for debt settlement in connection with Community Facilities loans and grants, direct Business and Industry loans, Indian Tribal Land Acquisition loans and Irrigation and Drainage. The debt settlement program provides the delinquent client with an equitable tool for the compromise, adjustment, cancellation, or charge-off of a debt owed to the Agency.

Need and Use of the Information: The field offices will collect information from applicants, borrowers, consultants, lenders, and attorneys to determine eligibility, financial capacity and derive an equitable resolution. This information collected is similar to that required by a commercial lender in similar circumstances. Failure to collect the information could result in improper servicing of these loans.

Description of Respondents: Not for profit institutions; Business or other for-profit; State, Local or Tribal Government.

Number of Respondents: 35.

Frequency of Responses: Reporting: On occasion.

Total Burden Hours: 1,041.

Charlene Parker,
Departmental Information Collection Clearance Officer.

[FR Doc. 2016-22241 Filed 9-15-16; 8:45 am]

BILLING CODE 3410-XV-P